ENVIRONMENTAL PROTECTION AGENCY

40 CFR Part 63

[FRL-7222-3]

RIN 2060-AG91

National Emission Standards for Hazardous Air Pollutants for Source Categories: Generic Maximum Achievable Control Technology Standards

AGENCY: Environmental Protection Agency (EPA).

ACTION: Direct final rule; amendments.

SUMMARY: On June 29, 1999, we published the National Emission Standards for Hazardous Air Pollutants for Source Categories: Generic Maximum Achievable Control Technology (Generic MACT) Standards, which promulgated standards for four major hazardous air pollutants (HAP) source categories (i.e., acetal resins (AR) production, acrylic and modacrylic fiber (AMF) production, hydrogen fluoride (HF) production, and polycarbonate (PC) production). In September 1999, a petition for review of the June 1999 Generic MACT rule was filed by the General Electric Company in the U.S. Court of Appeals for the District of Columbia Circuit. The petitioner raised a concern regarding a recordkeeping provision in the promulgated rule. Subsequently, the petitioner raised an additional issue concerning the promulgated definition for “process vent,” and identified some editorial, cross-reference, and wording errors. Pursuant to a settlement agreement, EPA has agreed to revisions addressing each of these issues. EPA is effectuating this agreement through a direct final rule because we consider these revisions to be noncontroversial, and we anticipate no adverse comment.

DATES: This direct final rule will be effective on July 29, 2002 without further notice, unless significant adverse comments are received by July 8, 2002, or by July 22, 2002, if a public hearing is requested. See the proposed rule in this Federal Register for information on the hearing. If significant adverse comments are received, we will publish a timely withdrawal of this direct final rule in the Federal Register informing the public that this direct final rule will not take effect.

ADDRESSES: Comments. By U.S. Postal Service, submit written comments (in duplicate if possible) to: Air and Radiation Docket and Information Center (6102), Attention: Docket No. A-97-17, U.S. EPA, 1200 Pennsylvania Avenue, NW., Washington, DC 20460. In person or by courier, submit comments (in duplicate, if possible) to: Air and Radiation Docket and Information Center (6102), Attention: Docket No. A-97-17, Room M-1500, U.S. EPA, 401 M Street, SW., Washington, DC 20460. We request that a separate copy of each public comment also be sent to the contact person listed below (see FOR FURTHER INFORMATION CONTACT).

FOR FURTHER INFORMATION CONTACT: Mr. David W. Markwordt, Policy, Planning, and Standards Group (MC439-04), Emission Standards Division, Research Triangle Park, NC 27711, telephone number: (919) 541-0837, electronic mail (e-mail): markwordt.david@epa.gov.

SUPPLEMENTARY INFORMATION: Comments. We are publishing this action as a direct final rule because we view the amendments as noncontroversial and do not anticipate adverse comments. However, in the Proposed Rules section of this Federal Register, we are publishing a separate document that will serve as the proposal in the event that adverse comments are filed.

If we receive any significant adverse comments, we will publish a timely withdrawal in the Federal Register informing the public that this direct final rule will not take effect. We will address all public comments in a subsequent final rule based on the proposed rule. We will not institute a second comment period on this direct final rule. Any parties interested in commenting must do so at this time.

Docket. The docket is an organized and complete file of the administrative record compiled by the EPA in the development of this rulemaking. The docket is a dynamic file because material is added throughout the rulemaking process. The docketing system is intended to allow members of the public and industries involved to readily identify and locate documents so that they can effectively participate in the rulemaking process. Along with the proposed and promulgated standards and their preambles, the contents of the docket will serve as the record in the case of judicial review. (See section 307(d)(7)(A) of the Clean Air Act (CAA).) The regulatory text and other materials related to this rulemaking are available for review in the docket or copies may be mailed on request from the Air Docket by calling (202) 260-7548. A reasonable fee may be charged for copying docket materials. You may also obtain docket indexes by facsimile, as described on the Office of Air and Radiation, Docket and Information Center Website at http://www.epa.gov/airprogm/oar/docket/faxlist.html. Worldwide Web (WWW). In addition to being available in the docket, an electronic copy of this action will also be available through the WWW. Following signature, a copy of the action will be posted on the EPA's Technology Transfer Network (TTN) policy and guidance page for newly proposed or promulgated rules at http://www.epa.gov/ttn/oarpg. The TTN at EPA's web site provides information and technology exchange in various areas of air pollution control. If more information regarding the TTN is needed, call the TTN HELP line at (919) 541-5384.

Regulated Entities. The regulated categories and entities affected by this action include:

Category | NAICS* | Regulated entities
Industry | 25199 | Producers of homopolymers and/or copolymers of alternating oxymethylene units. Producers of either acrylic fiber or modacrylic fiber synthetics composed of acrylonitrile (AN) units. Producers of polycarbonate.
Industry | 325188 | Producers of, and recoverers of HF by reacting calcium fluoride with sulfuric acid. For the purpose of implementing the rule, HF production is not a process that produces gaseous HF for direct reaction with hydrated aluminum to form aluminum fluoride (i.e., the HF is not recovered as an intermediate or final product prior to reacting with the hydrated aluminum).
* North American Information Classification System

This table is not intended to be exhaustive, but rather provides a guide for readers likely to be interested in the revisions to the regulation. To determine whether your facility is regulated by this action, you should carefully examine the applicability criteria in 40 CFR § 63.1103 of the promulgated rule. If you have any questions regarding the applicability of these amendments to a particular entity, consult the appropriate EPA Regional Office representative. Judicial Review. Under section 307(b)(1) of the CAA, judicial review of this direct final rule is available only by filing a petition for review in the U.S. Court of Appeals for the District of Columbia by August 6, 2002. Under section 307(d)(7)(B) of the CAA, only an objection to this rule that was raised with reasonable specificity during the period for public comment can be raised during judicial review. Moreover, under section 307(b)(2) of the CAA, the requirements established by this direct final rule may not be challenged later in civil or criminal proceedings brought by the EPA to enforce these requirements.

I. What Is the Background for the Proposed Amendments?

On June 29, 1999, we published the National Emission Standards for Hazardous Air Pollutants for Source Categories: Generic Maximum Achievable Control Technology (Generic MACT) Standards, 40 CFR Part 63, Subpart YY, which promulgated standards for four major hazardous air pollutants (HAP) source categories (i.e., acetal resins (AR) production, acrylic and modacrylic fiber (AMF) production, hydrogen fluoride (HF) production, and polycarbonate (PC) production). 64 FR 34921. On November 22, 1999, we published some corrections to the final rule. 64 FR 63709.

In September 1999, the General Electric Company (GE) filed a petition for review of the June 1999 Generic MACT rule in the U.S. Court of Appeals for the District of Columbia Circuit. General Electric Co. v. U.S. Environmental Protection Agency, No. 99-1353 (D.C. Circuit). In its petition, GE raised an initial concern regarding the recordkeeping provision in 40 CFR 63.1109(c). Subsequently, GE also raised an issue concerning the promulgated definition for “process vent” in 40 CFR 63.1101, which EPA determined could only be properly resolved in conjunction with similar issues which were being considered with respect to some other MACT standards. GE also identified some other editorial, cross-reference, and wording errors which had not been corrected in the November 22, 1999 rulemaking.

GE and EPA subsequently entered into settlement discussions. In a settlement agreement which was lodged with the D.C. Circuit Court on March 13, 2002, EPA agreed to propose changes to the Generic MACT standards addressing each of the issues raised by GE. EPA also stated its intention to effectuate these changes through direct final rulemaking. EPA provided notice and an opportunity for comment on the proposed settlement agreement on March 22, 2002. 67 FR 13326.

II. What Are the Proposed Amendments?

1. Recordkeeping Requirements

In its petition for review, GE initially cited only one issue, which involves a change in the recordkeeping provisions in Section 63.1109(c) that we made between the proposed and final rules. As currently promulgated, that section states that “all records required to be maintained by this subpart or a subpart referenced by this subpart shall be maintained in such a manner that they can be accessed within 2 hours and are suitable for inspection.” At proposal, Section 63.1109(c) stated that “all records required to be maintained by this subpart or a subpart referenced by this subpart shall be maintained in such a manner that they can be readily accessed and are suitable for inspection.” We added the 2-hour time constraint between proposal and promulgation, rather than allowing records to be “readily accessed,” believing that we were introducing a reasonable time constraint that clarified what we meant by “readily accessed.” Based on feedback from the petitioners, we agreed to remove this time constraint as it was demonstrated to us that the 2-hour time constraint is not reasonable in all cases. Therefore, today's action restores the language we originally proposed.

2. Process Vent Definition

On October 14, 1998, we proposed the following “process vent” definition (63 FR 55178):

Process vent means a gas stream that is continuously discharged during operation of the unit within a manufacturing process unit that meets the applicability criteria of this subpart. Process vents include gas streams that are either discharged directly to the atmosphere or after diversion through a product recovery device. Process vents exclude relief valve discharges and leaks from equipment regulated under this subpart.

We received comments on the proposed definition from two commenters. One commenter stated that a process vent is a piece of equipment but that our proposed definition defined a process vent as a continuous gas stream. The commenter requested that the definition be modified to become a definition for a process vent stream.

Another commenter requested that the term “organic HAP” be used in the definition of process vent. This commenter also requested that storage vessels be expressly excluded from the definition, along with low organic HAP streams, and suggested an alternative definition. The alternative definition that the commenter provided follows:

Process vent means a gas stream containing greater than 0.005 weight percent organic HAP that is continuously discharged during operation of the unit within a manufacturing process unit that meets the applicability criteria of this subpart. Process vents include gas streams that are either discharged directly to the atmosphere or are discharged to the atmosphere after diversion through a product recovery device. Process vents exclude relief valve dischargers, emissions from storage tanks, and leaks from equipment regulated under this subpart.

After considering the comments, we revised the definition at promulgation to the following:

Process vent means a piece of equipment that processes a gas stream (both batch and continuous streams) during operation of the unit within a manufacturing process unit that meets the applicability criteria of this subpart. Process vents process gas streams that are either discharged directly to the atmosphere or are discharged to the atmosphere after diversion through a product recovery device. Process vents include vents from distillate receivers, product separators, and ejector-condensers. Process vents exclude relief valve discharges and leaks from equipment regulated under this subpart. Process vents that process gas streams containing less than or equal to 0.005 weight-percent organic HAP are not subject to the process vent requirements of this subpart.

During settlement discussions, GE raised certain concerns regarding the effect of the process vent definition as it was promulgated. At the time, EPA was also considering similar issues with respect to the national emission standards for organic hazardous air pollutants from the synthetic organic chemical manufacturing industry for process vent, storage vessels, transfer operation, and wastewater. EPA and GE ultimately agreed on a revised definition which addresses the concerns expressed by GE and is also consistent with the approach we adopted in the other rulemakings.

We agreed to propose changes to the definition of “process vent” as follows: (1) Amending the definition to specifically exclude gas streams subject to other requirements under the Generic MACT (40 CFR part 63, subpart YY) (e.g., gas streams from waste management units); (2) deleting the second sentence of the promulgated definition for process vent, which does not add anything that the definition for “unit operation” does not already address; and (3) making some clarifying grammatical changes. After incorporating these revisions, the new definition will read as follows:

Process vent means the point of discharge to the atmosphere (or the point of entry into a control device, if any) of a gas stream from a unit operation within a source category subject to this subpart. Process vents exclude the following gas stream discharges:

(1) Relief valve discharges;

(2) Leaks from equipment subject to this subpart;

(3) Gas streams exiting a control device complying with this subpart;

(4) Gas streams transferred to other processes (on-site or off-site) for reaction or other use in another process (i.e., for chemical value as a product, isolated intermediate, byproduct, or co-product for heat value);

(5) Gas streams transferred for fuel value (i.e., net positive heating value), use, reuse, or sale for fuel value, use, or reuse;

(6) Gas streams from storage vessels or transfer racks subject to this subpart;

(7) Gas streams from waste management units subject to this subpart;

(8) Gas streams from wastewater streams subject to this subpart; and

(9) Gas streams exiting process analyzers; and

(10) Gas stream discharges that contain less than or equal to 0.005 weight-percent total organic HAP.

The revised “process vent” definition is consistent with our original intent, and we believe that the revision will not change the number of affected sources, the number of emission points subject to control, or the required level of control. The clearer definition also may preclude the need for certain applicability determinations, thereby reducing the burden on State and local agencies implementing the rule.

3. Cross-Reference, Editorial and Wording Amendments

GE also identified some editorial (e.g., typos, type set), cross-reference and wording errors in the final rule which were not corrected in the technical corrections we promulgated on November 22, 1999. We are amending the rule to correct these errors with today's action.

For example, as promulgated, § 63.1104(d)(3) incorrectly uses the word “produce.” The correct and intended word is “product.” For another example, Table 5 of § 63.1103(d), item 6, uses the mathematical symbol of “≤.” The correct and intended mathematical symbol is “≥.” Table 5 of § 63.1103(d), item 6, also contains a superscript error, where a letter should be superscript that is not. Today's action corrects these typeset errors.

III. Why Are We Publishing These amendments as a Direct Final Rule?

EPA has decided that it is appropriate to effectuate the proposed changes to the Generic MACT standards through direct final rulemaking. We think that these amendments are consistent with our original intent, and we do not expect them to affect which sources are subject to the rule, or to alter the control requirements applicable to those sources. Because we view these amendments as noncontroversial, we do not anticipate any adverse comment. Moreover, because the compliance date for many facilities subject to the standards is July 1, 2002, we think the public interest will be served if these changes can be made effective prior to that compliance date.

IV. Administrative Requirements

A. Executive Order 12866, Regulatory Planning and Review

Under Executive Order 12866 (58 FR 51735, October 4, 1993), we must determine whether a regulatory action is “significant” and, therefore, subject to review by the Office of Management and Budget (OMB) and the requirements of the Executive Order. The Executive Order defines “significant regulatory action” as one that is likely to result in a rule that may:

(1) Have an annual effect on the economy of $100 million or more, or adversely affect in a material way the economy, a sector of the economy, productivity, competition, jobs, the environment, public health or safety, or State, local, or tribal governments or communities;

(2) create a serious inconsistency or otherwise interfere with an action taken or planned by another agency;

(3) materially alter the budgetary impact of entitlements, grants, user fees, or loan programs or the rights and obligations of recipients thereof; or

(4) raise novel legal or policy issues arising out of legal mandates, the President's priorities, or the principles set forth in the Executive Order.

Pursuant to the terms of Executive Order 12866, we have determined that the amendments do not constitute a “significant regulatory action” because they do not meet any of the above criteria. Consequently, this action was not submitted to OMB for review under Executive Order 12866.

B. Paperwork Reduction Act

The information collection requirements for the Generic MACT standards for acetal resins production, acrylic and modacrylic fiber production, hydrogen fluoride production, and polycarbonate production were submitted to and approved by the Office of Management and Budget. An Information Collection Request (ICR) document has been prepared by EPA (ICR No. 1891.03) and a copy may be obtained from Susan Auby by mail at U.S. EPA, Office of Environmental Information, Collection Strategies Division (2822T), 1200 Pennsylvania Avenue, NW., Washington, DC 20460, by email at auby.susan@epa.gov, or by calling (202) 566-1672. By U.S. Postal Service, send comments on the ICR to the Director, Collection Strategies Division, U.S. EPA (2822T), 1200 Pennsylvania Avenue, NW., Washington, DC 20460; or by courier, send comments on the ICR to the Director, Collection Strategies Division, U.S. EPA (2822T), 1301 Constitution Avenue, NW., Room 6143, Washington, DC 20460 (202) 566-1700); a copy may also be downloaded at http://www.epa.gov/icr. This approval expires September 30, 2002.

Today's direct final rule amendments have no impact on the information collection burden estimates made previously. Consequently, the ICR has not been revised.

C. Executive Order 13132, Federalism

Executive Order 13132, (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

The direct final rule amendments do not have federalism implications. They will not have substantial direct effects on the States, on the relationship between the national government and the States, or on the distribution of power and responsibilities among the various levels of government, as specified in Executive Order 13132. Today's action corrects errors and clarifies the applicability of the rule. There are minimal, if any, impacts associated with this action. Thus, Executive Order 13132 does not apply to the direct final rule amendments.

D. Executive Order 13175, Consultation and Coordination with Indian Tribal Governments

Executive Order 13175, entitled “Consultation and Coordination with Indian Tribal Governments” (65 FR 67249, November 6, 2000), requires EPA to develop an accountable process to ensure “meaningful and timely input by tribal officials in the development of regulatory policies that have tribal implications.”

The direct final rule amendments do not have tribal implications, as specified in Executive Order 13175. No tribal governments own or operate facilities affected by the Generic MACT. Thus, Executive Order 13175 does not apply to the direct final rule amendments.

E. Unfunded Mandates Reform Act of 1995

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures by State, local, and tribal governments, in the aggregate, or by the private sector, of $100 million or more in any 1 year. Before promulgating an EPA rule for which a written statement is needed, section 205 of the UMRA generally requires EPA to identify and consider a reasonable number of regulatory alternatives and adopt the least costly, most cost-effective, or least burdensome alternative that achieves the objective of the rule. The provisions of section 205 do not apply when they are inconsistent with applicable law. Moreover, section 205 allows EPA to adopt an alternative other than the least costly, most cost-effective, or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

The EPA has determined that the direct final rule amendments contain no Federal mandates that may result in expenditures of $100 million or more for State, local, and tribal governments, in the aggregate, or the private sector in any 1 year. Thus, the amendments are not subject to the requirements of sections 202 and 205 of the UMRA. In addition, EPA has determined that the amendments contain no regulatory requirements that might significantly or uniquely affect small governments because they contain no requirements that apply to such governments or impose obligations upon them. Therefore, the direct final rule amendments are not subject to the requirements of section 203 of the UMRA.

F. Regulatory Flexibility Act (RFA), as Amended by the Small Business Regulatory Enforcement Fairness Act of 1996 (SBREFA), 5 U.S.C. 601 et seq.

The RFA generally requires an agency to prepare a regulatory flexibility analysis of any rule subject to notice and comment rulemaking requirements under the Administrative Procedure Act or any other statute unless the Agency certifies that the rule will not have a significant economic impact on a substantial number of small entities. Small entities include small businesses, small organizations, and small governmental jurisdictions.

For purposes of assessing the impacts of today's direct final rule amendments on small entities, a small entity is defined as: (1) A small business whose parent company has fewer than 1000 employees; (2) a small governmental jurisdiction that is a government of a city, county, town, school district or special district with a population of less than 50,000; or (3) a small organization that is any not-for-profit enterprise which is independently owned and operated and is not dominant in its field.

We believe there will be little or no impact on any small entities because the direct final rule amendments do not impose additional requirements but instead either eliminate cross-referencing, editorial, and wording errors or clarify the applicability of existing requirements of the MACT standards established for acetal resins production, acrylic and modacrylic fiber production, hydrogen fluoride production, and polycarbonate production. We have, therefore, concluded that today's direct final rule amendments will not have a significant economic impact on a substantial number of small entities.

G. National Technology Transfer and Advancement Act of 1995

Section 12(d) of the National Technology Transfer and Advancement Act (NTTAA), (Pub. L. 104-113) (March 7, 1996) (15 U.S.C. 272 note), directs all Federal agencies to use voluntary consensus standards in their regulatory activities unless to do so would be inconsistent with applicable law or otherwise impractical. Voluntary consensus standards are technical standards (e.g., materials specifications, test methods, sampling and analytical procedures, business practices, etc.) that are developed or adopted by one or more voluntary consensus standards bodies. The NTTAA requires Federal agencies like EPA to provide Congress, through annual reports to OMB, with explanations when an agency does not use available and applicable voluntary consensus standards.

The direct final rule amendments do not establish or modify technical standards in the existing rule and do not require sources to take substantive steps that are appropriate to the use of voluntary consensus standards.

H. Executive Order 13045, Protection of Children From Environmental Health Risks and Safety Risks

Executive Order 13045 (62 FR 19885, April 23, 1997) applies to any rule that: (1) Is determined to be “economically significant” as defined under Executive Order 12866, and (2) concerns an environmental health or safety risk that EPA has reason to believe may have a disproportionate effect on children. If the regulatory action meets both criteria, EPA must evaluate the environmental health or safety effects of the planned rule on children and explain why the planned regulation is preferable to other potentially effective and reasonably feasible alternatives considered by the Agency.

The direct final rule amendments are not subject to Executive Order 13045 because they are not an economically significant regulatory action as defined by Executive Order 12866. In addition, the EPA interprets Executive Order 13045 as applying only to those regulatory actions that are based on health or safety risks. The direct final rule amendments are not subject to Executive Order 13045 because they are based on technology performance and not on health or safety risks.

I. Congressional Review Act

The Congressional Review Act, 5 U.S.C. 801, et seq., as added by the Small Business Regulatory Enforcement Fairness Act of 1996, generally provides that before a rule may take effect, the agency promulgating the rule must submit a rule report, which includes a copy of the rule, to each House of the Congress and to the Comptroller General of the United States. The EPA will submit a report containing the direct rule amendments and other required information to the U.S. Senate, the U.S. House of Representatives, and the Comptroller General of the United States prior to publication of the rule in the Federal Register. A major rule cannot take effect until 60 days after it is published in the Federal Register. This action is not a “major rule” as defined by 5 U.S.C. 804(2).

J. Executive Order 13211, Actions Concerning Regulations That Significantly Affect Energy Supply, Distribution or Use

The direct final rule amendments are not subject to Executive Order 13211, “Actions Concerning Regulation That Significantly Affect Energy Supply, Distribution, or Use” (66 FR 28355, May 22, 2001) because they are not a significant regulatory action under Executive Order 12866.

List of Subjects in 40 CFR Part 63

Environmental protection, Air pollution control, Hazardous air pollutants, Hazardous substances, Reporting and recordkeeping requirements.

Dated: May 23, 2002.
Christine Todd Whitman,
Administrator.

For the reasons set out in the preamble, title 40, chapter I, part 63 of the Code of Federal Regulations is amended as follows:

PART 63—[AMENDED]

1. The authority citation for part 63 continues to read as follows:

Authority: 42 U.S.C. 7401, et seq.

Subpart YY—National Emission Standards for Hazardous Air Pollutants for Source Categories: Generic Maximum Achievable Control Technology Standards

2. Section 63.1101 is amended by revising the definitions for “combined vent stream”, “process unit” and “process vent” to read as follows:

§ 63.1101 Definitions.

* * * * *

Combined vent stream means a process vent that is comprised of at least one gas stream from a batch unit operation manifolded with at least one gas stream from a continuous unit operation.

* * * * *

Process unit means the equipment assembled and connected by pipes or ducts to process raw and/or intermediate materials and to manufacture an intended product. A process unit includes more than one unit operation.

* * * * *

Process vent means the point of discharge to the atmosphere (or the point of entry into a control device, if any) of a gas stream from a unit operation within a source category subject to this subpart.

Process vent excludes the following gas stream discharges:

(1) Relief valve discharges;

(2) Leaks from equipment subject to this subpart;

(3) Gas streams exiting a control device complying with this subpart;

(4) Gas streams transferred to other processes (on-site or off-site) for reaction or other use in another process (i.e., for chemical value as a product, isolated intermediate, byproduct, or co-product for heat value);

(5) Gas streams transferred for fuel value (i.e., net positive heating value), use, reuse, or sale for fuel value, use, or reuse;

(6) Gas streams from storage vessels or transfer racks subject to this subpart;

(7) Gas streams from waste management units subject to this subpart;

(8) Gas streams from wastewater streams subject to this subpart;

(9) Gas streams exiting process analyzers; and

(10) Gas stream discharges that contain less than or equal to 0.005 weight-percent total organic HAP.

* * * * *

3. In § 63.1103, paragraph (d)(3) is amended by:

a. Revising entry “6” of Table 5 to Sec. 63.1103(d);

b. Revising entries “4” and “5” of Table 6 to Sec. 63.1103(d); and

c. Revising footnote “b” of Table 6 to Sec. 63.1103(d).

The revisions read as follows:

§ 63.1103 Source category-specific applicability, definitions, and requirements.

* * * * *

(d) * * *

(3) * * *

Table 5 to § 63.1103(d).—What Are My Requirements if I Own or Operate a Polycarbonate Production Existing Affected Source?
If you own or operate * * * | And if * * * | Then you must * * *
* * * * * * *
6. Equipment as defined under § 63.1101 | The equipment contains or contacts ≥ 5 weight-percent total organic HAP ᵉ, and operates ≥ 300 hours per year | Comply with the requirements of subpart TT (national emission standards for equipment leaks (control level 1)) or subpart UU (national emission standards for equipment leaks (control level 2)) of this part.
* * * * * * *

Table 6 to § 63.1103(d).—What Are My Requirements if I Own or Operate a Polycarbonate Production New Affected Source?
If you own or operate * * * | And if * * * | Then you must * * *
* * * * * * *
4. A process vent from continuous unit operations or a combined vent stream ᵃ | The vent stream has a TRE ᵇ ᶜ ≤9.6 | a. Reduce emissions of total organic HAP by 98 weight-percent; or reduce total organic HAP to a concentration of 20 parts per million by volume; whichever is less stringent, by venting emissions through a closed vent system to any combination of control devices meeting the requirements of subpart SS, as specified in § 63.982(a)(2) (process vent requirements) of this part; and Vent emissions through a closed vent system to a halogen reduction device meeting the requirements of subpart SS, § 63.994, of this part that reduces hydrogen halides and halogens by 99 weight-percent or to less than 0.45 kilograms per hourd,ᵈ, whichever is less stringent; or
|  | b. Reduce the process vent halogen atom mass emission rate to less than 0.45 kilograms per hour by venting emissions through a closed vent system to a halogen reduction device meeting the requirements of subpart SS, § 63.994 (halogen reduction device requirements) of this part; and Reduce emissions of total organic HAP by 98 weight-percent; or reduce total organic HAP or TOC to a concentration of 20 parts per million by volume; whichever is less stringent, by venting emissions through a closed vent system to any combination of control devices meeting the requirements of subpart SS, as specified in § 63.982(a)(2) (process vent requirements) of this part; or
|  | c. Achieve and maintain a TRE index value greater than 9.6.
5. Equipment as defined under § 63.1101 | The equipment contains or contacts ≥ 5 weight-percent total organic HPA ᵉ, and operates ≥ 300 hours per year | Comply with the requirements of subpart TT (national emission standards for equipment leaks (control level 1)) or subpart UU (national emission standards for equipment leaks (control level 2)) of this part.
* * * * * * *
ᵇ The TRE equation coefficients for halogenated streams (Table 1 of § 63.1104(j)(1) of this subpart) shall be used to calculate the TRE index value.
ᶜ The TRE is determined according to the procedures specified in § 63.1104(j). If a dryer is manifolded with such vents, and the vent is routed to a recovery, recapture, or combustion device, then the TRE index value for the vent must be calculated based on the properties of the vent stream (including the contribution of the dryer). If a dryer is manifolded with other vents and not routed to a recovery, recapture, or combustion device, then the TRE index value must be calculated excluding the contributions of the dryer. The TRE index value for the dryer must be calculated separately in this case.
ᵈ The mass emission rate of halogen atoms contained in organic compounds is determined according to the procedures specified in § 63.1104(i).
* * * * * * *

4. Section 63.1104 is amended by:

a. Revising the first sentence of paragraph (c);

b. Revising paragraph (d)(3);

c. Revising the definition of the term for Dj in paragraph (g)(1); and

d. Revising Table 1 in paragraph (j)(1).

The revisions read as follows:

§ 63.1104 Process vents from continuous unit operations: applicability assessment procedures and methods.

* * * * *

(c) Applicability assessment requirement. The TOC or organic HAP concentrations, process vent volumetric flow rates, process vent heating values, process vent TOC or organic HAP emission rates, halogenated process vent determinations, process vent TRE index values, and engineering assessments for process vent control applicability assessment requirements are to be determined during maximum representative operating conditions for the process, except as provided in paragraph (d) of this section, or unless the Administrator specifies or approves alternate operating conditions. * * *

(d) * * *

(3) Necessitating that the owner or operator make product in excess of demand.

* * * * *

(g) * * *

(1) * * *

Dj=Concentration on a wet basis of compound j in parts per million, as measured by procedures indicated in paragraph (e)(2) of this section. For process vents that pass through a final steam jet and are not condensed, the moisture is assumed to be 2.3 percent by volume.

* * * * *

(j) * * *

(1) * * *

Table 1 of § 63.1104(j)(1).—Coefficients for Total Resource Effectiveness ᵃ
Existing or new? | Halogenated vent stream? | Control device basis | Values of coefficients: A | Values of coefficients: B | Values of coefficients: C | Values of coefficients: D
Existing | Yes | Thermal Incinerator and Scrubber | 3.995 | 5.200×10⁻² | −1.769×10⁻³ | 9.700×10 ⁻⁴
| No | Flare | 1.935 | 3.660×10 ⁻¹ | −7.687×10 ⁻³ | −7.333×10 ⁻⁴
|  | Thermal Incinerator 0 Percent Recovery | 1.492 | 6.267×10 ⁻² | 3.177×10 ⁻² | −1.159×10 ⁻³
|  | Thermal Incinerator 70 Percent Recovery | 2.519 | 1.183×10 ⁻² | 1.300×10 ⁻² | 4.790×10 ⁻²
New | Yes | Thermal Incinerator and Scrubber | 1.0895 | 1.417×10 ⁻² | −4.822×10 ⁻⁴ | 2.645×10 ⁻⁴
| No | Flare | 5.276×10 ⁻¹ | 9.98×10 ⁻² | −2.096×10 ⁻³ | 2.000×10 ⁻⁴
|  | Therman Incinerator 0 Percent Recovery | 4.068×10 ⁻¹ | 1.71×10 ⁻² | 8.664×10 ⁻³ | −3.162×10 ⁻⁴
|  | Thermal Incinerator 70 Percent Recovery | 6.868×10 ⁻¹ | 3.209×10 ⁻³ | 3.546×10 ⁻³ | 1.306×10 ⁻²
ᵃ Use according to procedures outlined in this section.
MJ/scm = Mega Joules per standard cubic meter.
scm/min = Standard cubic meters per minute.

* * * * *

5. Section 63.1109 is amended by revising the first sentence of paragraph (c) to read as follows:

§ 63.1109 Recordkeeping requirements.

* * * * *

(c) Availability of records. All records required to be maintained by this subpart or a subpart referenced by this subpart shall be maintained in such a manner that they can be readily accessed and are suitable for inspection.* * *

* * * * *

[FR Doc. 02-13800 Filed 6-6-02; 8:45 am]

BILLING CODE 6560-50-P